DEPARTMENT OF HOMELAND SECURITY

[Docket No. DHS-2010-0071]

National Protection and Programs Directorate; Agency Information Collection Activities: Office of Infrastructure Protection; Chemical Security Awareness Training Program

AGENCY: National Protection and Programs Directorate, DHS.

ACTION: 60-Day notice and request for comments.

Extension of a Currently Approved Information Collection: 1670-0009.

SUMMARY: The Department of Homeland Security, National Protection and Programs Directorate, Office of Infrastructure Protection, Sector-Specific Agency Executive Management Office (NPPD/SSA EMO), submits the following Information Collection Request (ICR) to the Office of Management and Budget (OMB) for review and clearance in accordance with the Paperwork Reduction Act of 1995 (Pub. L. 104-13, 44 U.S.C. Chapter 35).

DATES: Comments are encouraged and will be accepted until October 26, 2010. This process is conducted in accordance with 5 CFR 1320.1.

ADDRESSES: Written comments and questions about this Information Collection Request should be forwarded to the Department of Homeland Security, NPPD/SSA EMO, Chemical Sector-Specific Agency, 245 Murray Lane, SW., Mail Stop 0608, Washington, DC 20528-0608. E-mailed requests should go to Amy Graydon at chemicalsector@dhs.gov. Written comments should reach the contact person listed no later than October 26, 2010. Comments must be identified by DHS-2010-0071 and may be submitted by one of the following methods:

• Federal eRulemaking Portal: http://www.regulations.gov.

• E-mail: chemicalsector@dhs.gov. Include the docket number in the subject line of the message.

Instructions: All submissions received must include the words “Department of Homeland Security” and the docket number for this action. Comments received will be posted without alteration at http://www.regulations.gov, including any personal information provided.

SUPPLEMENTARY INFORMATION: The Chemical Sector-Specific Agency, within the DHS NPPD/SSA EMO, provides an on-line voluntary training program to improve security in the chemical industry sector. Information is automatically collected in a computer database as a result of individuals engaging in the training. Explicit reporting or recordkeeping is not required. The training is designed for the general chemical facility employee. U.S. chemical industry direct employment is about 850,000 (2009 per the American Chemistry Council); approximately 400,000 employees are estimated as potential participants. Estimated duration in the first year to complete the registration, training, and survey is 60 minutes, and less if individuals take refresher training in succeeding years. Minimal participation data is collected as trainees complete the online exercises. Upon completion, a Certificate of Completion is generated at the trainee's computer work station, printed, and optionally e-mailed to a facility supervisor. DHS will monitor program participation, success in training, and basic distribution variables submitted upon registration. Training information and survey responses gathered will be used for program review purposes only. Personally identifiable information, such as the trainee's name when optionally entered on the printable certificate, will not be stored in the system. In addition, e-mail addresses and other contact information are not requested to complete the training. To protect privacy, users will be asked to create a generic user ID, password, and password retrieval question and answer.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: Chemical Security Awareness Training Program (CSATP).

OMB Number: 1670-0009.

CSATP Registration

Frequency: Annually.

Affected Public: Private Sector.

Number of Respondents: 400,000.

Estimated Time Per Respondent: .17 hours.

Total Burden Hours: 68,000 annual burden hours.

Total Burden Cost (capital/startup): $0.

Total Burden Cost (operating/maintaining): $2,720,000.

CSATP Module

Frequency: Annually.

Affected Public: Private Sector.

Number of Respondents: 400,000.

Estimated Time Per Respondent: .66 hours.

Total Burden Hours: 264,000.

Total Burden Cost (capital/startup): $0.

Total Burden Cost (operating/maintaining): $10,560,000.

CSATP Survey

Frequency: Annually.

Affected Public: Private Sector.

Number of Respondents: 400,000.

Estimated Time Per Respondent: .17 hours.

Total Burden Hours: 68,000.

Total Burden Cost (capital/startup): $0.

Total Burden Cost (operating/maintaining): $2,720,000.

Signed: August 18, 2010.
David Epperson,
Acting Chief Information Officer, National Protection and Programs Directorate, Department of Homeland Security.

[FR Doc. 2010-21373 Filed 8-26-10; 8:45 am]

BILLING CODE 9110-9P-P